DEPARTMENT OF HOMELAND SECURITY

Federal Emergency Management Agency

[FEMA-1780-DR]

Texas; Amendment No. 1 to Notice of a Major Disaster Declaration

AGENCY: Federal Emergency Management Agency, DHS.

ACTION: Notice.

SUMMARY: This notice amends the notice of a major disaster declaration for the State of Texas (FEMA-1780-DR), dated July 24, 2008, and related determinations.

DATES: Effective Date: July 31, 2008.

FOR FURTHER INFORMATION CONTACT: Peggy Miller, Disaster Assistance Directorate, Federal Emergency Management Agency, 500 C Street, SW., Washington, DC 20472, (202) 646-3886.

SUPPLEMENTARY INFORMATION: The notice of a major disaster declaration for the State of Texas is hereby amended to include Individual Assistance in the following areas among those areas determined to have been adversely affected by the catastrophe declared a major disaster by the President in his declaration of July 24, 2008.

Cameron, Hidalgo, and Willacy Counties for Individual Assistance and debris removal (Category A) under the Public Assistance program (already designated for emergency protective measures [Category B], including direct Federal assistance, under the Public Assistance program.)

Aransas, Bexar, Brooks, Calhoun, Jim Wells, Kenedy, Kleberg, Nueces, Refugio, San Patricio, Starr, and Victoria Counties for debris removal (Category A) under the Public Assistance program (already designated for emergency protective measures [Category B], including direct Federal assistance, under the Public Assistance program.)

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidential Declared Disaster Areas; 97.049, Presidential Declared Disaster Assistance—Disaster Housing Operations for Individuals and Households; 97.050, Presidential Declared Disaster Assistance to Individuals and Households—Other Needs; 97.036, Disaster Grants—Public Assistance (Presidentially Declared Disasters); 97.039, Hazard Mitigation Grant.)

R. David Paulison,
Administrator, Federal Emergency Management Agency.

[FR Doc. E8-18440 Filed 8-8-08; 8:45 am]

BILLING CODE 9110-10-P